DEPARTMENT OF THE INTERIOR

National Park Service

Notice of Availability of a General Management Plan (GMP)/Draft Environmental Impact Statement (EIS) for Big South Fork National River and Recreation Area (National Area), Kentucky and Tennessee

AGENCY: National Park Service; Interior.

SUMMARY: The National Area was established by Congress in 1974 for the purposes of conserving and interpreting an area containing unique cultural, natural, and recreational values, preserving as a free-flowing stream the Big South Fork of the Cumberland River and portions of its Clear Fork and New River stems and portions of their tributaries, and the development of the area's potential for healthful outdoor recreation.

This is the first GMP for the National Area prepared under National Park Service (NPS) policies and procedures. The Plan presents a long-term framework for managing the National Area by: (1) Examining the elements of required management found in its establishing and related legislation and NPS policy; and (2) identifying different applications of management units that would achieve two alternative management concepts. The alternative of “no-action” is also examined for comparison.

DATES: The comment period will extend for ninety (90) days from the date of this notice. A series of public meetings will be held in surrounding communities during this period. Local media will announce the times and locations and the National Area may be contacted for this information.

FOR FURTHER INFORMATION CONTACT: Superintendent Big South Fork NRRA, 4564 Leatherwood Ford Road; Oneida, TN 37841; Telephone (423) 569-9778, e-mail: biso_superintendent@nps.gov.

SUPPLEMENTARY INFORMATION: Comments on this Draft GMP/EIS are solicited at this time. Comments may be provided to the Superintendent at the address below or at public meetings to be announced. Copies of the document may be obtained from the Superintendent.

Our practice is to make comments, including names and homes addresses of respondents, available for public review during regular business hours. Individual respondents may request that we withhold their home address from the rulemaking record, which we will honor to the extent allowable by law. There also may be circumstances in which we would withhold from the rulemaking record a respondent's identity, as allowable by law. If you wish for us to withhold your name and/or address, you must state this prominently at the beginning of your comments. We will make all submissions from organizations or businesses, and from individuals identifying themselves as representatives or officials of organizations or businesses, available for public inspection in their entirety.

Dated: February 10, 2000.
Daniel W. Brown,
Acting Regional Director, Southeast Region.

[FR Doc. 00-4831 Filed 2-29-00; 8:45 am]

BILLING CODE 4310-70-M